DEPARTMENT OF TRANSPORTATION

Federal Aviation Administration

14 CFR Part 39

[Docket No. FAA-2016-6417; Directorate Identifier 2015-NM-134-AD]

RIN 2120-AA64

Airworthiness Directives; The Boeing Company Airplanes

AGENCY: Federal Aviation Administration (FAA), DOT.

ACTION: Notice of proposed rulemaking (NPRM).

SUMMARY: We propose to adopt a new airworthiness directive (AD) for all The Boeing Company Model DC-10-10 and DC-10-10F airplanes, Model DC-10-15 airplanes, Model DC-10-30 and DC-10-30F (KC-10A and KDC-10) airplanes, Model DC-10-40 and DC-10-40F airplanes, Model MD-10-10F and MD-10-30F airplanes, and Model MD-11 and MD-11F airplanes. This proposed AD was prompted by results from fuel system reviews conducted by the manufacturer and multiple reports of fuel pump housing electrical connector failures related to ingress of airplane fluids. This proposed AD would require replacement of the fuel pump housing electrical connector or replacement of the fuel pump housing; repetitive inspections for proper operation and corrective actions if necessary; and revising the maintenance or inspection program to incorporate new airworthiness limitations. This proposed AD would also require, for certain airplanes, a general visual inspection of the protective cap and replacement if necessary. We are proposing this AD to prevent failure of the fuel pump housing electrical connector, which could result in a potential ignition source in a fuel tank and consequent fire or explosion.

DATES: We must receive comments on this proposed AD by June 24, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For The Boeing Company service information identified in this NPRM, contact Boeing Commercial Airplanes, Attention: Data & Services Management, 3855 Lakewood Boulevard, MC D800-0019, Long Beach, CA 90846-0001; phone: 206-544-5000, extension 2; fax: 206-766-5683; Internet https://www.myboeingfleet.com.

For Crane Aerospace & Electronics, Hydro-Aire, Inc. service information identified in this NPRM, contact Crane Aerospace & Electronics, Hydro-Aire, Inc.: 3000 Winona Avenue, Burbank, CA 91510-7722; phone: 818-526-2500; fax: 818-526-5658; email: CommSpares@craneaerospace.com.

You may view this referenced service information at the FAA, Transport Airplane Directorate, 1601 Lind Avenue SW., Renton, WA. For information on the availability of this material at the FAA, call 425-227-1221. Boeing Service Bulletin DC10-28-264, dated May 15, 2015; and Boeing Service Bulletin MD11-28-146, dated May 15, 2015; are also available on the Internet at http://www.regulations.gov by searching for and locating Docket No. FAA-2016-6417.

Examining the AD Docket

You may examine the AD docket on the Internet at http://www.regulations.gov by searching for and locating Docket No. FAA-2016-6417; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Philip Kush, Aerospace Engineer, Propulsion Branch, ANM-140L, FAA, Los Angeles Aircraft Certification Office (ACO), 3960 Paramount Boulevard, Lakewood, CA 90712-4137; phone: 562-627-5263; fax: 562-627-5210; email: Philip.kush@faa.gov.

SUPPLEMENTARY INFORMATION:

Comments Invited

We invite you to send any written relevant data, views, or arguments about this proposal. Send your comments to an address listed under the ADDRESSES section. Include “Docket No. FAA-2016-6417; Directorate Identifier 2015-NM-134-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

The FAA has examined the underlying safety issues involved in fuel tank explosions on several large transport airplanes, including the adequacy of existing regulations, the service history of airplanes subject to those regulations, and existing maintenance practices for fuel tank systems. As a result of those findings, we issued a regulation titled “Transport Airplane Fuel Tank System Design Review, Flammability Reduction and Maintenance and Inspection Requirements” (66 FR 23086, May 7, 2001). In addition to new airworthiness standards for transport airplanes and new maintenance requirements, this rule included Special Federal Aviation Regulation No. 88 (“SFAR 88,” Amendment 21-78, and subsequent Amendments 21-82 and 21-83).

Among other actions, SFAR 88 requires certain type design (i.e., type certificate (TC) and supplemental type certificate (STC)) holders to substantiate that their fuel tank systems can prevent ignition sources in the fuel tanks. This requirement applies to type design holders for large turbine-powered transport airplanes and for subsequent modifications to those airplanes. It requires them to perform design reviews and to develop design changes and maintenance procedures if their designs do not meet the new fuel tank safety standards. As explained in the preamble to the rule, we intended to adopt airworthiness directives to mandate any changes found necessary to address unsafe conditions identified as a result of these reviews.

In evaluating these design reviews, we have established four criteria intended to define the unsafe conditions associated with fuel tank systems that require corrective actions. The percentage of operating time during which fuel tanks are exposed to flammable conditions is one of these criteria. The other three criteria address the failure types under evaluation: single failures, combination of failures, and unacceptable (failure) experience. For all three failure criteria, the evaluations included consideration of previous actions taken that may mitigate the need for further action.

We have determined that the actions identified in this AD are necessary to reduce the potential of ignition sources inside fuel tanks, which, in combination with flammable fuel vapors, could result in fuel tank explosions and consequent loss of the airplane.

We have received multiple reports of fuel pump housing electrical connector failures related to ingress of airplane fluids. Currently installed fuel pump housing electrical connectors have 18 month repetitive inspection requirements related to AD 2011-11-05, Amendment 39-16704 (76 FR 31462, dated June 1, 2011) (“AD 2011-11-05”), and AD 2002-13-10, Amendment 39-12798 (67 FR 45053, dated July 8, 2002) (“AD 2002-13-10”). An improved fuel pump housing electrical connector has been developed to supersede the currently installed fuel pump housing electrical connector. Additionally, a secondary option has been developed that allows the operator to replace the fuel pump housing. In addition to the new fuel pump housing electrical connector, the use of environmentally sealed terminal lugs will help to prevent the wicking of airplane fluids into the fuel pump wires and the fuel pump housing electrical connector. This condition, if not corrected, could result in failure of the fuel pump housing electrical connector, causing a potential ignition source in a fuel tank and consequent fire or explosion.

Related Service Information Under 1 CFR Part 51

We reviewed the following service information.

• Boeing Service Bulletin DC10-28-264, dated May 15, 2015. The service information describes procedures for replacement of the fuel pump housing electrical connector with a new fuel pump housing electrical connector or replacement of the fuel pump housing. The service information also describes procedures for inspections for proper operation and corrective actions if necessary.

• Boeing Service Bulletin MD11-28-146, dated May 15, 2015. The service information describes procedures for replacement of the fuel pump housing electrical connector with a new fuel pump housing electrical connector or replacement of the fuel pump housing. The service information also describes procedures for inspections for proper operation and corrective actions if necessary.

• Crane Aerospace & Electronics, Hydro-Aire, Inc. Service Bulletin 60-843/845-28-2, dated October 1, 2014. The service information describes procedures for a general visual inspection of the protective cap and replacement if necessary.

• Appendixes B, C, and D of Boeing Trijet Special Compliance Item Report MDC-02K1003, Revision O, dated April 15, 2015, which include Critical Design Configuration Control Limitations (CDCCLs), Airworthiness Limitation Instructions (ALIs), and short-term extensions.

This service information is reasonably available because the interested parties have access to it through their normal course of business or by the means identified in the ADDRESSES section.

Other Relevant Rulemaking

AD 2000-22-21, Amendment 39-11969 (65 FR 69658, dated November 20, 2000) (“AD 2000-22-21”), applies to all The Boeing Company Model DC-10, Model MD-10, and Model MD-11 series airplanes. AD 2000-22-21 requires revising the Airplane Flight Manual (AFM) to ensure that the flight crew is advised of appropriate procedures for disabling certain fuel pump electrical circuits following failure of a fuel pump electrical connector. For certain airplanes, AD 2000-22-21 also requires revising the AFM to prohibit resetting of tripped fuel pump circuit breakers. AD 2000-22-21 was prompted by reports of four incidents on McDonnell Douglas Model DC-10 and MD-11 series airplanes, in which a short circuit occurred in the electrical connector between the power lead and the housing of a fuel pump. The circuit breaker did not trip in any of these incidents because the electrical arcing that occurred was shorter in duration than necessary for the circuit breaker to detect the arcing and open the circuit. We issued AD 2000-22-21 to prevent continued arcing following a short circuit of the fuel pump electrical connector, which could damage the conduit that protects the power lead inside the fuel tank, and result in the creation of a potential ignition source in the fuel tank.

AD 2002-13-10 applies to certain The Boeing Company Model DC-10-10, -10F, -15, -30, -30F, -30F (KC-10A and KDC-10), -40, and -40F airplanes; Model MD-10-10F and -30F airplanes; and Model MD-11 and -11F airplanes. AD 2002-13-10 requires repetitive tests for electrical continuity and resistance and repetitive inspections to detect discrepancies of the fuel boost/transfer pump connectors; and corrective actions, if necessary. AD 2002-13-10 was prompted by reports of five instances of failed connectors in the fuel boost/transfer pump circuit on The Boeing Company Model DC-10 and MD-11 series airplanes. We issued AD 2002-13-10 to prevent arcing of connectors in the fuel boost/transfer pump circuit, which could result in a fire or explosion of the fuel tank.

AD 2003-07-14, Amendment 39-13110 (68 FR 17544, dated April 10, 2003), applies to a single The Boeing Company Model DC-10-30 airplane. AD 2003-07-14 requires repetitive tests for electrical continuity and resistance and repetitive inspections to detect discrepancies of the fuel boost/transfer pump connectors; and corrective actions, if necessary. AD 2003-07-14 was prompted by reports of five instances of failed connectors in the fuel boost/transfer pump circuit on certain McDonnell Douglas Model DC-10 and MD-11 series airplanes. We issued AD 2003-07-14 to prevent arcing of connectors in the fuel boost/transfer pump circuit, which could result in a fire or explosion of the fuel tank.

AD 2008-06-21 R1, Amendment 39-16100 (74 FR 61504, November 25, 2009), applies to all McDonnell Douglas Corporation Model DC-10-10 and DC-10-10F airplanes, Model DC-10-15 airplanes, Model DC-10-30 and DC-10-30F (KC-10A and KDC-10) airplanes, Model DC-10-40 and DC-10-40F airplanes, Model MD-10-10F and MD-10-30F airplanes, and Model MD-11 and MD-11F airplanes. AD 2008-06-21 R1 requires revising the FAA-approved maintenance program, or the Airworthiness Limitations (AWLs) section of the Instructions for Continued Airworthiness, as applicable, to incorporate new AWLs for fuel tank systems to satisfy Special Federal Aviation Regulation No. 88 requirements. For certain airplanes, AD 2008-06-21 R1 also requires the initial accomplishment of a certain repetitive AWL inspection to phase in that inspection, and repair if necessary. AD 2008-06-21 R1 clarifies the intended effect of the AD on spare and on-airplane fuel tank system components. AD 2008-06-21 R1 was prompted by a design review of the fuel tank system. We issued AD 2008-06-21 R1 to prevent the potential for ignition sources inside fuel tanks caused by latent failures, alterations, repairs, or maintenance actions, which, in combination with flammable fuel vapors, could result in a fuel tank explosion and consequent loss of the airplane.

AD 2011-11-05 applies to all The Boeing Company Model DC-10-10, DC-10-10F, DC-10-15, DC-10-30, DC-10-30F (KC-10A and KDC-10), DC-10-40, DC-10-40F; Model MD-10-10F, MD-10-30F, MD-11, and MD-11F airplanes. AD 2011-11-05 requires replacing the fuel pump housing electrical connector assembly with a new part and doing repetitive inspections for continuity, resistance, and insulation resistance, and doing corrective actions if necessary. AD 2011-11-05 was prompted by reports of failures of a certain fuel pump housing electrical connector. We issued AD 2011-11-05 to detect and correct insulation resistance degradation and arcing in the potted backside of the electrical connector assembly of the fuel boost/transfer pump housing, which could compromise its performance and cause an ignition source in the fuel tank, resulting in a fuel tank explosion and consequent loss of the airplane.

FAA's Determination

We are proposing this AD because we evaluated all the relevant information and determined the unsafe condition described previously is likely to exist or develop in other products of these same type designs.

Proposed AD Requirements

This proposed AD would require replacement of the fuel pump housing electrical connector or replacement of the fuel pump housing. This proposed AD would also require, for certain airplanes, a general visual inspection of the protective cap and replacement if necessary. This proposed AD would also require repetitive inspections for proper operation of the fuel pump and corrective actions if necessary. This proposed AD would also require revising the maintenance or inspection program to incorporate new airworthiness limitations.

This proposed AD requires revisions to certain operator maintenance documents to include new actions (e.g., inspections) and CDCCLs. Compliance with these actions and CDCCLs is required by 14 CFR 91.403(c). For airplanes that have been previously modified, altered, or repaired in the areas addressed by this AD, the operator may not be able to accomplish the actions described in the revisions. In this situation, to comply with 14 CFR 91.403(c), the operator must request approval for an alternative method of compliance according to paragraph (l) of this AD. The request should include a description of changes to the required inspections that will ensure the continued operational safety of the airplane.

Notwithstanding any other maintenance or operational requirements, components that have been identified as airworthy or installed on the affected airplanes before accomplishing the revision of the airplane maintenance or inspection program specified in this proposed AD, do not need to be reworked in accordance with the CDCCLs. However, once the airplane maintenance or inspection program has been revised as required by this proposed AD, future maintenance actions on these components must be done in accordance with the CDCCLs.

The phrase “corrective actions” is used in this proposed AD. “Corrective actions” correct or address any condition found. Corrective actions in an AD could include, for example, repairs.

Costs of Compliance

We estimate that this proposed AD affects 246 airplanes of U.S. registry.

We estimate the following costs to comply with this proposed AD:

Estimated Costs
Action | Labor cost | Parts cost | Cost per product | Cost on U.S. operators
Option 1: Replace connectors (including inspection) (122 Model DC-10, and MD-10 airplanes.) | 68 work-hours × $85 per hour = $5,780 | $54,842 | $60,622 | $7,395,884.
Option 1: Replace connectors (including inspection) (124 Model MD-11 airplanes.) | 59 work-hours × $85 per hour = $5,015 | $67,031 | $72,046 | $8,933,704.
Option 2: Replace fuel pump housings (122 Model DC-10, and MD-10 airplanes.) | Up to 81 work-hours × $85 per hour = $6,885 | Up to $54,842 | Up to $61,727 | Up to $7,530,694.
Option 2: Replace fuel pump housings (124 Model MD-11 airplanes.) | 77 work-hours × $85 per hour = $6,545 | $67,031 | $73,576 | $9,123,424.
Maintenance or inspection program revision | 1 work-hour × $85 per hour = $85 | $0 | $85 | $20,910.
Inspection for proper operation | Up to 130 work-hours × $85 per hour = $11,050 | $0 | Up to $11,050 | Up to $2,718,300.

We have received no definitive data that would enable us to provide cost estimates for the on-condition replacement and corrective actions specified in this proposed AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2016-6417; Directorate Identifier 2015-NM-134-AD.

(a) Comments Due Date

We must receive comments by June 24, 2016.

(b) Affected ADs

This AD affects AD 2000-22-21, Amendment 39-11969 (65 FR 69658, dated November 20, 2000); AD 2002-13-10, Amendment 39-12798 (67 FR 45053, dated July 8, 2002); AD 2003-07-14, Amendment 39-13110 (68 FR 17544, dated April 10, 2003); AD 2008-06-21 R1, Amendment 39-16100 (74 FR 61504, November 25, 2009); and AD 2011-11-05, Amendment 39-16704 (76 FR 31462, dated June 1, 2011).

(c) Applicability

This AD applies to all The Boeing Company Model DC-10-10 and DC-10-10F airplanes, Model DC-10-15 airplanes, Model DC-10-30 and DC-10-30F (KC-10A and KDC-10) airplanes, Model DC-10-40 and DC-10-40F airplanes, Model MD-10-10F and MD-10-30F airplanes, and Model MD-11 and MD-11F airplanes, certificated in any category.

(d) Subject

Air Transport Association (ATA) of America Code 28, Fuel.

(e) Unsafe Condition

This AD was prompted by multiple reports of fuel pump housing electrical connector failures related to ingress of airplane fluids. We are issuing this AD to prevent failure of the fuel pump housing electrical connector, which could result in a potential ignition source in a fuel tank and consequent fire or explosion.

(f) Compliance

Comply with this AD within the compliance times specified, unless already done.

(g) Replacement

Within 36 months after the effective date of this AD, do the actions required by paragraph (g)(1) or (g)(2) of this AD.

(1) Do a replacement of the fuel pump housing electrical connector with a new fuel pump housing electrical connector, including doing a general visual inspection of the protective cap for a spring and applicable replacement of the protective cap, in accordance with the Accomplishment Instructions of Boeing Service Bulletin DC10-28-264, dated May 15, 2015; or Boeing Service Bulletin MD11-28-145, dated May 15, 2015, as applicable; and Crane Aerospace & Electronics, Hydro-Aire, Inc. Service Bulletin 60-843/845-28-2, dated October 1, 2014.

(2) Do a replacement of the fuel boost pump housing with a new fuel boost pump housing, in accordance with the Accomplishment Instructions of Boeing Service Bulletin DC10-28-264, dated May 15, 2015; or Boeing Service Bulletin MD11-28-146, dated May 15, 2015, as applicable.

(h) Repetitive Inspections

Within 24 months after accomplishing the replacement required by paragraph (g) of this AD, do an inspection for proper operation of the fuel pump and all applicable corrective actions, in accordance with Appendix A, “24 Month Repetitive Inspection,” of Boeing Service Bulletin DC10-28-264, dated May 15, 2015; or Boeing Service Bulletin MD11-28-146, dated May 15, 2015; as applicable. Do all applicable corrective actions before further flight. Repeat the inspection thereafter at intervals not to exceed 24 months.

(i) Maintenance or Inspection Program Revision

Within 30 days after accomplishing the replacement required by paragraph (g) of this AD, or within 30 days after the effective date of this AD, whichever occurs later, revise the maintenance or inspection program, as applicable, to incorporate the Critical Design Configuration Control Limitations (CDCCLs), Airworthiness Limitation Instructions (ALIs), and short-term extensions specified in Appendices B, C, and D of Boeing Trijet Special Compliance Item (SCI) Report MDC-02K1003, Revision O, dated April 15, 2015. The initial compliance time for accomplishing the actions specified in the ALIs is at the later of the times specified in paragraphs (i)(1) and (i)(2) of this AD. Revising the maintenance or inspection program required by this paragraph terminates the requirements in paragraphs (g) and (h) of AD 2008-06-21 R1, Amendment 39-16100 (74 FR 61504, November 25, 2009).

(1) At the applicable time specified in Appendix C of Boeing Trijet SCI Report MDC-02K1003, Revision O, dated April 15, 2015, except as provided by Appendix D of Boeing Trijet SCI Report MDC-02K1003, Revision O, dated April 15, 2015.

(2) Within 30 days after accomplishing the actions required by paragraph (g) of this AD, or within 30 days after the effective date of this AD, whichever occurs later.

(j) No Alternative Actions, Intervals, or CDCCLs

After the maintenance or inspection program has been revised as required by paragraph (i) of this AD, no alternative actions (e.g., inspections), intervals, or CDCCLs may be used unless the actions, intervals, or CDCCLs are approved as an alternative method of compliance (AMOC) in accordance with the procedures specified in paragraph (l) of this AD.

(k) Terminating Action for Certain Paragraphs of Other ADs

Accomplishing the actions required by paragraph (g) of this AD terminates the requirements specified in paragraphs (k)(1), (k)(2), (k)(3), and (k)(4) of this AD for that airplane only.

(1) The actions required by paragraph (a) of AD 2000-22-21, Amendment 39-11969 (65 FR 69658, dated November 20, 2000).

(2) The actions required by paragraphs (a) and (b) of AD 2002-13-10, Amendment 39-12798 (67 FR 45053, dated July 8, 2002).

(3) The actions required by paragraphs (a) and (b) of AD 2003-07-14, Amendment 39-13110 (68 FR 17544, dated April 10, 2003).

(4) The actions required by paragraph (j) of AD 2011-11-05, Amendment 39-16704 (76 FR 31462, dated June 1, 2011).

(l) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m)(1) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Los Angeles ACO to make those findings. To be approved, the repair method, modification deviation, or alteration deviation must meet the certification basis of the airplane, and the approval must specifically refer to this AD.

(4) For service information that contains steps that are labeled as Required for Compliance (RC), the provisions of paragraphs (l)(4)(i) and (l)(4)(ii) of this AD apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(m) Related Information

(1) For more information about this AD, contact Philip Kush, Aerospace Engineer, Propulsion Branch, ANM-140L, FAA, Los Angeles Aircraft Certification Office (ACO), 3960 Paramount Boulevard, Lakewood, CA 90712-4137; phone: 562-627-5263; fax: 562-627-5210; email: Philip.kush@faa.gov.

(2) For The Boeing Company service information identified in this AD, contact Boeing Commercial Airplanes, Attention: Data & Services Management, 3855 Lakewood Boulevard, MC D800-0019, Long Beach, CA 90846-0001; phone: 206-544-5000, extension 2; fax: 206-766-5683; Internet https://www.myboeingfleet.com.

(3) For Crane Aerospace & Electronics, Hydro-Aire, Inc. service information identified in this AD, contact Crane Aerospace & Electronics, Hydro-Aire, Inc.: 3000 Winona Avenue, Burbank, CA 91510-7722; phone: 818-526-2500; fax: 818-526-5658; email: CommSpares@craneaerospace.com.

(4) You may view this referenced service information at the FAA, Transport Airplane Directorate, 1601 Lind Avenue SW., Renton, WA. For information on the availability of this material at the FAA, call 425-227-1221.

Issued in Renton, WA, on April 27, 2016.
Dionne Palermo,
Acting Manager, Transport Airplane Directorate, Aircraft Certification Service.

[FR Doc. 2016-10735 Filed 5-9-16; 8:45 am]

BILLING CODE 4910-13-P